DEPARTMENT OF VETERANS AFFAIRS

[OMB Control No. 2900-0567]

Agency Information Collection Activities Under OMB Review

AGENCY: National Cemetery Administration, Department of Veterans Affairs.

ACTION: Notice.

SUMMARY: In compliance with the Paperwork Reduction Act (PRA) of 1995 (44 U.S.C., 3501 et seq.), this notice announces that the National Cemetery Administration (NCA), Department of Veterans Affairs, has submitted the collection of information abstracted below to the Office of Management and Budget (OMB) for review and comment. The PRA submission describes the nature of the information collection and its expected cost and burden; it includes the actual data collection instrument.

DATES: Comments must be submitted on or before February 12, 2001.

For Further Information or a Copy of the Submission Contact: Denise McLamb, Information Management Service (045A4), Department of Veterans Affairs, 810 Vermont Avenue, NW., Washington, DC 20420, (202) 273-8030 or FAX (202) 273-5981. Please refer to “OMB Control No. 2900-0567” in any correspondence.

SUPPLEMENTARY INFORMATION: Title: PMC Insert, VA Form 40-0247.

OMB Control Number: 2900-0567.

Type of Review: Reinstatement, without change, of a previously approved collection for which approval has expired.

Abstract: The purpose of the PMC Insert is to allow an eligible recipient, which includes the next of kin, other relatives or friends, i.e., surviving spouses, sons, daughters, grandchildren, and others, to request additional certificates and/or replacements or corrected certificates upon receipt of the original PMC. Replacements are requested due to PMCs being bent, water soaked, or other damage during mail handling; corrected PMCs are requested due to an incorrect name of the deceased veteran. The PMC is a gold foiled-embossed certificate containing the Great Seal of the United States and bearing the President's signature. It is mailed to relatives and friends of deceased, honorably discharged veterans honoring their military service to our Nation. In most cases involving recent deaths, the local VA Regional Office originates the application process without request from the next of kin as part of processing death benefits claims.

The PMC Insert is not self-initiated by the general public/eligible recipients. There is no form or application that is used to initiate an original request. Original requests are normally in the form of letters and/or telephone calls from eligible recipients.

An agency may not conduct or sponsor, and a person is not required to respond to a collection of information unless it displays a currently valid OMB control number. The Federal Register notice with a 60-day comment period soliciting comments on this collection of information was published on August 31, 2000, at pages 53093 and 53094.

Affected Public: Individuals or households.

Estimated Annual Burden: 1,298 hours.

Estimated Average Burden Per Respondent: 2 minutes.

Frequency of Response: On occasion.

Estimated Number of Respondents: 38,952.

Send comments and recommendations concerning any aspect of the information collection to VA's OMB Desk Officer, OMB Human Resources and Housing Branch, New Executive Office Building, Room 10235, Washington, DC 20503 (202) 395-7613. Please refer to “OMB Control No. 2900-0567” in any correspondence.

Dated: November 28, 2000.
By direction of the Secretary.
Barbara H. Epps,
Management Analyst, Information Management Service.

[FR Doc. 01-831 Filed 1-10-01; 8:45 am]

BILLING CODE 8320-01-P